COMMISSION ON CIVIL RIGHTS

Sunshine Act Notice

Agency: U.S. Commission on Civil Rights.

Date and Time: Friday, November 18, 2005, 9:30 a.m., Commission Meeting.

Place: U.S. Commission on Civil Rights, 624 9th Street, NW., Room 540, Washington, DC 20425.

Status:

Agenda:

I. Approval of Agenda

II. Approval of Minutes of October 31, 2005 Meeting

III. Announcements

IV. Commission Briefing: Campus Anti-Semitism

• Introductory Remarks by Chairman

• Speakers' Presentations

• Questions by Commissioners and Staff Director

V. Staff Director's Report

VI. Management and Operations

• Posting September 30, 2005, Report to Senate Appropriations on Website

• Election Assistance Commission Appointments

VII. State Advisory Committees

• Criteria to be Considered When Voting on SAC Reports

• Length of SAC Terms

• Vote on SAC Reports: Arizona and New Mexico

VIII. Briefing Reports

• Stagnation of Black Middle Class Briefing Report

• Voting Rights Act Briefing Report

IX. Future Briefings

• Disparity Studies

• Native Hawaiian Government Reorganization Act

• Patriot Act

• Affirmative Action in U.S. Law Schools

Future Agenda Items

FOR FURTHER INFORMATION CONTACT: Terri Dickerson, Press and Communications (202) 376-8582.

Kenneth L. Marcus,
Staff Director, Acting General Counsel.

[FR Doc. 05-22573 Filed 11-8-05; 8:45 am]

BILLING CODE 6335-01-M